DEPARTMENT OF HOUSING AND URBAN DEVELOPMENT

[Docket No. FR-5689-N-14]

60-Day Notice of Proposed Information Collection for Public Comment: Applications for HUD Research, Evaluation, and Demonstration Cooperative Agreements

AGENCY: Office of the Assistant Secretary for Policy Development and Research, HUD.

ACTION: Notice of proposed information collection.

SUMMARY: The proposed information collection requirement described below will be submitted to the Office of Management and Budget (OMB) for review, as required by the Paperwork Reduction Act. The Department is soliciting public comments on the subject proposal.

DATES: Comment Due Date: February 28, 2014.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

FOR FURTHER INFORMATION CONTACT: HUD will submit the proposed extension of information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of information collection on those who are to respond, including the use of appropriate automated collection techniques or other forms of information technology, e.g., permitting electronic submission of responses.

SUPPLEMENTARY INFORMATION: This notice informs the public that HUD is seeking approval from OMB for the information collection described in Section A.

A. Overview of Information Collection

Title of Proposal: Applications for HUD Research, Evaluation, and Demonstration Cooperative Agreements.

OMB Control Number: Pending.

Description of the Need for the Information and Proposed Use: PD&R intends to establish cooperative agreements with qualified for-profit and nonprofit research organizations and universities to conduct research, demonstrations, and data analysis. PD&R will issue a Notice of Funding Availability (NOFA) describing the cooperative research program. To assess qualified organizations for cooperative research, PD&R must collect information about the qualifications and capacity of organizations that apply under the NOFA.

Agency Form Numbers:

Members of the Affected Public: For-profit and nonprofit organizations that apply to participate under the cooperative research agreements NOFA. HUD anticipates that approximately 18 organizations will apply.

Estimate of the total number of hours needed to prepare the information collection including number of respondents, frequency of response, and hours of response: HUD anticipates that 18 organizations will apply, and it will take each organization an average of 66.5 hours to prepare an application, including the narrative and the mandatory forms. The total estimated burden for application by all participants is 1,197 hours.

| Respondents (applicants) | Responses per respondent | Hours per response | Total hours
Application narrative | 18 | 1 | 60.0 | 1,080
Application forms | 18 | 1 | 6.5 | 117
Paperwork burden | n/a | n/a | 66.5 | 1,197

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: December 20, 2013.
Jean Lin Pao,
General Deputy Assistant Secretary for Policy Development and Research.

[FR Doc. 2013-31259 Filed 12-27-13; 8:45 am]

BILLING CODE 4210-67-P